DEPARTMENT OF COMMERCE

Patent and Trademark Office

Agency Information Collection Activities; Submission to the Office of Management and Budget (OMB) for Review and Approval; Comment Request; Recording Assignments

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on April 16, 2021 during a 60-day comment period. This notice allows for an additional 30 days for public comments.

Agency: United States Patent and Trademark Office, Department of Commerce.

Title: Recording Assignments.

OMB Control Number: 0651-0027.

Form Numbers:

• PTO-1594 (Trademark Assignment Recordation Cover Sheet)

• PTO-1595 (Patent Assignment Recordation Cover Sheet)

Type of Review: Extension and revision of a currently approved information collection.

Estimated Number of Respondents: 649,880 respondents per year.

Estimated Number of Responses: 649,880 responses per year.

Estimated Time per Response: The USPTO estimates that it will take the public approximately 30 minutes (.5 hours) to gather the necessary information, create the document, and submit the completed item to the USPTO.

Estimated Total Annual Respondent Burden Hours: 324,941 hours.

Estimated Total Annual Non-Hour Cost Burden: $3,968,075.

Needs and Uses: This collection of information is required by 35 U.S.C. 261 and 262 for patents and 15 U.S.C. 1057 and 1060 for trademarks. These statutes authorize the United States Patent and Trademark Office (USPTO) to record patent and trademark assignment documents, including transfers of properties (i.e., patents and trademarks), liens, licenses, assignments of interest, security interests, mergers, and explanations of transactions or other documents that record the transfer of ownership of a particular patent or trademark property from one party to another. Assignments are recorded for applications, patents, and trademark registrations.

The USPTO administers these statutes through 37 CFR 2.146, 2.171, and 37 CFR 3. These regulations permit the public, corporations, other federal agencies, and Government-owned or Government-controlled corporations to submit patent and trademark assignment documents and other documents related to title transfers to the USPTO to be recorded. In accordance with 37 CFR 3.54, the recording of an assignment document by the USPTO is an administrative action and not a determination of the validity of the document or of the effect that the document has on the title to an application, patent, or trademark.

In order to record an assignment document, the respondent must submit an appropriate cover sheet along with copies of the assignment document to be recorded. Once the assignment documents are recorded, they are available for public inspection. The public uses these records to conduct ownership and chain-of-title searches. The public may view these records either at the USPTO Public Search Facility or at the National Archives and Records Administration, depending on the date they were recorded. The public may also search patent and trademark assignment information online through the USPTO website. The only exceptions are those documents that are sealed under secrecy orders according to 37 CFR 3.58 or related to unpublished patent applications maintained in confidence under 35 U.S.C. 122 and 37 CFR 1.14.

This information collection covers assignments submitted by paper and online through the use of the Electronic Patent Assignment System (EPAS) and the Electronic Trademark Assignment System (ETAS). The electronic systems allow customers to complete the required cover sheet information online using web-based forms and then attach the electronic assignment documents to be submitted for recordation. The electronic systems are available through the USPTO website at https://epas.uspto.gov/ and https://etas.uspto.gov/.

Affected Public: Private sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0027.

Further information can be obtained by:

• Email: InformationCollection@uspto.gov. Include “0651-0027 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2021-13809 Filed 6-28-21; 8:45 am]

BILLING CODE 3510-16-P